DEPARTMENT OF THE INTERIOR

Minerals Management Service

[Docket no. MMS-2010-OMM-0001]

MMS Information Collection Activity: 1010-NEW Study of Sharing To Assess Community Resilience; Notice of a New Collection; Comment Request

AGENCY: Minerals Management Service (MMS), Interior.

ACTION: Notice of an information collection (1010-NEW).

SUMMARY: To comply with the Paperwork Reduction Act of 1995 (PRA), MMS is inviting comments on a new collection of information that we will submit to the Office of Management and Budget (OMB) for review and approval. The information collection request (ICR) pertains to conducting a survey, Study of Sharing to Assess Community Resilience.

DATES: Submit written comments by March 15, 2010.

FOR FURTHER INFORMATION CONTACT: Cheryl Blundon, Regulations and Standards Branch at (703) 787-1607, to obtain a copy, at no cost, of the survey that requires the subject collection of information. For more information on the survey itself, contact Chris Campbell in the MMS Alaska Regional Office at (907) 334-5264.

ADDRESSES: You may submit comments by either of the following methods listed below.

• Electronically: Go to http://www.regulations.gov. In the entry titled “Enter Keyword or ID,” enter docket ID MMS-2010-OMM-0001 then click search. Under the tab “View By Relevance” you can submit public comments and view supporting and related materials available for this collection of information. The MMS will post all comments.

• Mail or hand-carry comments to the Department of the Interior; Minerals Management Service; Attention: Cheryl Blundon; 381 Elden Street, MS-4024; Herndon, Virginia 20170-4817. Please reference “Information Collection 1010-NEW” in your subject line and include your name and return address.

SUPPLEMENTARY INFORMATION: Title: Study of Sharing to Assess Community Resiliency.

OMB Control Number: 1010-NEW.

Abstract: The United States Congress, through the 1953 Outer Continental Shelf (OCS) Lands Act (OCSLA) [Pub. L. 95-372, Section 20] and its subsequent amendments, requires the Secretary of the Department of the Interior to monitor and assess the impacts of resource development activities in Federal waters on human, marine, and coastal environments. The OCSLA amendments authorize the Secretary of the Interior to conduct studies in areas or regions of sales to ascertain the “environmental impacts on the human, marine, and coastal environments of the outer Continental Shelf and the coastal areas which may be affected by oil and gas or other mineral development” (43 U.S.C. 1346).

The National Environmental Policy Act (NEPA) of 1969 (42 U.S.C. 4321-4347) requires that all Federal Agencies use a systematic, interdisciplinary approach to ensure the integrated use of the natural and social sciences in any planning and decision making that may have an effect on the human environment. The Council on Environmental Quality's Regulations for Implementing Procedural Provisions of NEPA (40 CFR 1500-1508) state that the “human environment” is to be “interpreted comprehensively” to include “the natural and physical environment and the relationship of people with that environment” (40 CFR 1508.14). An action's “aesthetic, historic, cultural, economic, social or health” effects must be assessed, “whether direct, indirect, or cumulative” (40 CFR 1508.8).

The U.S. Department of the Interior/Minerals Management Service (DOI/MMS) is the Federal administrative agency created both to conduct OCS lease sales and to monitor and mitigate adverse impacts that might be associated with offshore resource development. Within the MMS, the Environmental Studies Program functions to implement and manage the responsibilities of research. This study will facilitate the meeting of DOI/MMS information needs on subsistence food harvest and sharing activities in coastal Alaska, with specific focus on the Beaufort-Chukchi Planning Area.

The North Slope Planning Area includes more than 94,763 square miles—a large geographic area with diverse, abundant, and environmentally sensitive resources. Within that area, the DOI/MMS's Proposed OCS Oil and Gas Leasing Program 2007-2012 considers two oil and gas lease exploration plans for 2010, one in the Chukchi Sea and one in the Beaufort Sea. The areas slated for exploration and adjacent areas support major productive subsistence fisheries, provide habitat to numerous marine mammals, including bowhead whales, and are a significant migration and staging area for internationally important waterfowl. More than eight communities in the North Slope area rely heavily on subsistence.

This information collection (IC) request involves a 36-month study that will assess the vulnerabilities of two North Slope coastal communities and one control community to the potential effects of offshore oil and gas development on subsistence food harvest and sharing activities. It will investigate the resilience of local sharing networks that structure contemporary subsistence-cash economies using survey research methods that involves residents of two communities most proximate to the proposed exploration areas, Wainwright and Kaktovik, and one control community, Venetie. Future collections will involve other area communities.

The MMS will use the information collected to gain knowledge about local social systems in a way that may shape development strategies and serve as an interim baseline for impact monitoring to compare against future research in these areas. Without this data, MMS will not have sufficient information to make informed leasing and development decisions for these areas.

Survey Instrument: The research will be collected from a survey, given to each head of household, in the three communities, that will collect information about the subsistence (harvest data) and sharing networks of the communities. The information under this proposed collection will be obtained through personal interviews that are voluntary.

Interview methods: The interviews for each survey will be done face to face in a setting that is most comfortable for the respondents. This personal method is more expensive and time consuming for the researchers, but these drawbacks are outweighed by improvements in the quality of information obtained and the rapport established between the surveyor and the person interviewed. Telephone interviews have not been successful on the North Slope. Each respondent will be paid an honorarium for taking part in the survey.

Responses are voluntary.

Frequency: One-time event for each survey.

Estimated Number and Description of Respondents: Approximately 349 respondents from the communities involved.

Estimated Reporting and Recordkeeping “Hour” Burden: The MMS estimates the total annual burden hours to be 524 (rounded) (349 × 1.5 for each study = 523.5 total burden hours).

Estimated Reporting and Recordkeeping “Non-Hour Cost” Burden: We have identified no non-hour cost burdens for this collection.

Protections of Respondent Confidentiality: The survey is voluntary. The questionnaires will be administered under the guidelines of 45 CFR 46. The introduction that will be covered with each participant stresses that participation is voluntary and confidentiality will be maintained. No names will appear on the survey form, no photographs will be taken of any informant, and no videotaping will be conducted. Minor children will not be interviewed. Procedures designed to protect the confidentiality of the information provided will include the use of coded selection and identification number to protect the identities of respondents.

This survey will ask five potentially sensitive but routine questions on annual household income, unemployment, subsistence expenses, and household finances. One question asks the views of the respondent about future potential oil and gas development. Questions such as these have been used in past studies in rural Alaska with few, if any, complaints. During the interviews, the respondents will be warned that sensitive questions are coming up and that they may refuse to answer any query they object to. Respondents will also be reminded that they are assured anonymity through the survey design and process.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: January 5, 2010
William S. Hauser,
Acting Chief, Office of Offshore Regulatory Programs.

[FR Doc. 2010-354 Filed 1-11-10; 8:45 am]

BILLING CODE 4310-MR-P